DEPARTMENT OF HEALTH AND HUMAN SERVICES

National Institutes of Health

“Conference on Challenges in Health Disparity in the New Millennium: A Call to Action”

Notice is hereby given of the NIH Office of Research on Minority Health (ORMH) Conference on Challenges in Health Disparity in the New Millennium: A Call to Action, which will be held April 16-19, 2000, at the Hyatt Regency Washington on Capitol Hill, 400 New Jersey Avenue, NW, Washington, D. C. 20001. The conference begins at 8:00 a.m. on April 17, 8:00 a.m. on April 18, and 8:30 a.m. on April 19.

The Office of Research on Minority Health (ORMH), Office of the Director, National Institutes of Health (NIH), is convening this conference. ORMH is a central leadership entity at the NIH for issues related to minority health research and research training. Reports of progress and accomplishments since the founding of ORMH in 1990 and developing a strategic plan for future actions for eliminating health research and research training disparities comprise the agenda of the conference.

Specific conference objectives include:

• Recommending a framework for the ORMH to address continuing disparity in health status of the US population and the international community through the Minority Health Strategic Plan;

• Highlighting the role of the ORMH to address disparity in health status through basic and clinical research and research training in biomedical and behavioral sciences; and

• Promoting partnerships with leaders in Congress, associations, academic institutions, industry, community-based organizations, and other Federal agencies to help eliminate health disparity.

The primary sponsor of this conference is ORMH. Advance information on the conference program and conference registration materials maybe obtained from Debra Rainey, LCLM, LLC, Inc., 1299 Lamberton Drive, Suite 205, Silver Spring, Maryland 20902 (telephone: 301-593-2800).

Dated: April 7, 2000.
Yvonne Maddox,
Acting Deputy Director, National Institutes of Health.

[FR Doc. 00-9445 Filed 4-14-00; 8:45 am]

BILLING CODE 4140-01-U